DEPARTMENT OF DEFENSE

Notice of the Defense Acquisition Performance Assessment Project Meetings

AGENCY: Department of Defense.

ACTION: Notice; correction.

SUMMARY: On Friday, September 30, 2005 (70 FR 57256), the Department of Defense published a Notice of the Defense Acquisition Performance Assessment Project Meetings. This notice is published to correct the date in Column 1 from “October 29, 2005” to “October 19, 2005”. All other information remain unchanged.

FOR FURTHER INFORMATION CONTACT: Lt. Col. Rene Bergeron, Assistant Director of Staff, Defense Acquisition Performance Assessment Project, 1670 Air Force Pentagon, Rm 3A873, Washington DC 20310-1010; Telephone: (703) 697-3420; Fax: (703) 697-3511; rene.bergeron@pentagon.af.mil

Dated: October 11, 2005.
L.M. Bynum,
Alternate OSD Federal Register Liaison Officer, Department of Defense.

[FR Doc. 05-20694 Filed 10-14-05; 8:45 am]

BILLING CODE 5001-06-M